FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 2, 2000.

A. Federal Reserve Bank of Atlanta (Lois Berthaume, Vice President) 104 Marietta Street, N.W., Atlanta, Georgia 30303-2713:

1. FMB, Ltd. (General Partner), Monticello, Florida; F.W. Carraway, Jr. (General Partner), Sopochoppy, Florida; F. Wilson Carraway, III (General and Limited Partner), Thomasville, Georgia; Edward H. Carraway, (General and Limited Partner), Winter Springs, Florida; F.W. Carraway, Jr., (Limited Partner), Sopochoppy, Florida; F.W. Carraway, Jr. Grantor Retained Annuity Trust (Limited Partner), Sopochoppy, Florida; Elizabeth Carraway Neilson (Limited Partner), Monticello, Florida; Caroline Carraway Sutton (Limited Partner), Monticello, Florida; and Rena Katherine Carraway (Limited Partner), Monticello, Florida, to retain voting shares of FMB Banking Corporation, Monticello, Florida, thereby indirectly retain voting shares of Farmers & Merchants Bank, Monticello, Florida.

B. Federal Reserve Bank of Dallas (W. Arthur Tribble, Vice President) 2200 North Pearl Street, Dallas, Texas 75201-2272:

1. Wayne and Pearlie Wagner, Round Top, Texas; to acquire additional voting shares of Round Top Bancshares, Inc., Round Top, Texas, and thereby indirectly acquire voting shares of Round Top State Bank, Round Top, Texas.

Board of Governors of the Federal Reserve System, February 10, 2000.
Robert deV. Frierson,
Associate Secretary of the Board.

[FR Doc. 00-3599 Filed 2-15-00; 8:45 am]

BILLING CODE 6210-01-P